DEPARTMENT OF TRANSPORTATION

Federal Motor Carrier Safety Administration

[Docket No. FMCSA-2021-0052]

Hours of Service (HOS) of Drivers; Application by American Pyrotechnics Association for Exemptions From the 14-Hour Rule and the Electronic Logging Device Rule During Independence Day Celebrations

AGENCY: Federal Motor Carrier Safety Administration (FMCSA), Department of Transportation (DOT).

ACTION: Notice of application for exemptions; request for comments.

SUMMARY: FMCSA announces that it has received an application from the American Pyrotechnics Association (APA) requesting exemptions from certain hours of service (HOS) regulations. Previous similar exemptions expired on July 8, 2021, and APA now requests the exemptions on behalf of 45 member companies. The exemptions would allow drivers to exclude off-duty and sleeper berth time of any length from the calculation of the 14-hour limit and to use paper records of duty status (RODS) in lieu of an electronic logging device (ELD) during the designated Independence Day periods. The requests are for the transportation of pyrotechnics from June 28 through July 8 of every year from 2022 through 2026.

DATES: Comments must be received on or before August 8, 2022.

ADDRESSES: You may submit comments identified by Federal Docket Management System (FDMS) Docket ID FMCSA-2021-0052 using any of the following methods:

• Federal eRulemaking Portal: www.regulations.gov. See the Public Participation and Request for Comments section below for further information.

• Mail: Docket Operations, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., ET, Monday through Friday, except Federal holidays.

• Fax: (202) 493-2251.

Each submission must include the Agency name and the docket number (FMCSA-2021-0052) for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, without edit, including any personal information the commenter provides, to www.regulations.gov, as described in the system of records notice DOT/ALL-14 FDMS, which can be reviewed at https://www.transportation.gov/privacy.

FOR FURTHER INFORMATION CONTACT: Ms. Pearlie Robinson, Driver and Carrier Operations Division; Office of Carrier, Driver and Vehicle Safety Standards, FMCSA, (202) 366-4225 or by email at MCPSD@dot.gov. If you have questions on viewing or submitting material to the docket, contact Dockets Operations, (202) 366-9826.

SUPPLEMENTARY INFORMATION:

I. Public Participation and Request for Comments

FMCSA encourages you to participate by submitting comments and related materials.

Submitting Comments

If you submit a comment, please include the docket number for this notice (FMCSA-2021-0052), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number (“FMCSA-2021-0052”) in the “Keyword” box, and click “Search.” When the new screen appears, click on the “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews safety analyses and public comments submitted and determines whether granting the exemption would likely achieve a level of safety equivalent to, or greater than, the level that would be achieved by the current regulation (49 CFR 381.305). The Agency must publish its decision in the Federal Register (49 CFR 381.315(b)) with the reasons for denying or granting the application and, if granted, the name of the person or class of persons receiving the exemption and the regulatory provision from which the exemption is granted. The notice must specify the effective period and explain the terms and conditions of the exemption. The exemption may be renewed (49 CFR 381.300(b)).

III. Applicant's Requests

APA requests renewal of its HOS exemptions from the 14-hour rule in 49 CFR 395.3(a)(2) and the ELD rule in 49 CFR 395.8(a)(1)(i) for 42 of 60 companies included in the 2021 HOS exemptions, which expired on July 8, 2021 [86 FR 34834]. The application also requests the exemptions on behalf of 3 additional companies not included in the 2021 HOS exemptions. A copy of the request and additional correspondence modifying the request are in the docket at the beginning of this notice.

APA member companies have held waivers or exemptions during Independence Day periods each year since 2005. Copies of the initial request for an exemption, subsequent renewal requests, and all public comments received may be reviewed at www.regulations.gov under docket numbers FMCSA-2005-21104, FMCSA-2007-28043, FMCSA-2018-0140, and FMCSA-2021-0052.

IV. Request for Comments

In accordance with 49 U.S.C. 31315(b), FMCSA requests public comment from all interested persons on APA's application for exemptions from 49 CFR 395.3(a)(2) and 395.8(a)(1)(i). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

Appendix to Notice of Applications for Renewal of APA Exemptions From the 14-Hour and ELD HOS Rules for Independence Day Periods

June 28, 2022 Through July 8, 2026, for 45 Motor Carriers
| Motor carrier | Street address | City, state, zip code | DOT No.
1 | American Fireworks Display, LLC | 105 County Route 7 | McDonough, NY 13801 | 2115608
2 | AM Pyrotechnics, LLC | 2429 East 535th Rd | Buffalo, MO 65622 | 1034961
3 | Arthur Rozzi Pyrotechnics | 6607 Red Hawk Ct | Maineville, OH 45039 | 2008107
4 | Artisan Pyrotechnics, Inc | 82 Grace Road | Wiggins, MS 39577 | 1898096
5 | Atlas PyroVision Entertainment Group, Inc | 136 Sharon Road | Jaffrey, NH 03452 | 789777
6 | Celebration Fireworks, Inc | 7911 7th Street | Slatington, PA 18080 | 1527687
7 | *CP Transport, LLC | 6377 Hwy. 62 NE | Lanesville, IN 47136 | 3076205
8 | Dominion Fireworks, Inc | 669 Flank Road | Petersburg, VA 23805 | 540485
9 | Falcon Fireworks | 3411 Courthouse Road | Guyton, GA 31312 | 1037954
10 | Fireworks & Stage FX America | 12650 Hwy 67S. Suite B | Lakeside, CA 92040 | 908304
11 | Fireworks by Grucci, Inc | 20 Pinehurst Drive | Bellport, NY 11713 | 324490
12 | Aluminum King Mfg., Ltd. dba Flashing Thunder Fireworks | 700 E Van Buren Street | Mitchell, IA 50461 | 420413
13 | Great Lakes Fireworks | 24805 Marine | Eastpointe, MI 48021 | 1011216
14 | Hale Artificier, Inc | 3185 East US Hwy. 64 | Lexington, NC 27292 | 981325
15 | Hamburg Fireworks Display, Inc | 2240 Horns Mill Road SE | Lancaster, OH | 395079
16 | Hollywood Pyrotechnics, Inc | 1567 Antler Point | Eagan, MN 55122 | 1061068
17 | J&J Computing dba Fireworks Extravaganza | 174 Route 17 North | Rochelle Park, NJ 07662 | 2064141
18 | J&M Displays, Inc | 18064 170th Ave | Yarmouth, IA 52660 | 377461
19 | Johnny Rockets Fireworks Display Company | 3240 Love Rock | Steger, IL 60475 | 1263181
20 | Las Vegas Display Fireworks, Inc | 4325 West Reno Ave | Las Vegas, NV 89118 | 3060878
21 | Legion Fireworks Co., Inc | 10 Legion Lane | Wappingers Falls, NY 12590 | 554391
22 | Martin & Ware Inc. dba Pyro City Maine & Central Maine Pyrotechnics | P.O. Box 322 | Hallowell, ME 04347 | 734974
23 | Miand Inc. dba Planet Productions (Mad Bomber) | P.O. Box 294, 3999 Hupp Road R31 | Kingsbury, IN 46345 | 777176
24 | Montana Display Fireworks, Inc | 9480 Inspiration Road | Missoula, MT 59808 | 1030231
25 | *Pyro Productions Inc | 2083 Helms Road | Rehobeth, AL 36301 | 3723192
26 | *Pyro Shows East Coast | 4652 Catawba River Road | Catawba, SC 29704 | 3709087
27 | Pyro Shows, Inc | 115 N 1st Street | LaFollette, TN 37766 | 456818
28 | Pyro Shows of Alabama, Inc | 3325 Poplar Lane | Adamsville, AL 35005 | 2859710
29 | Pyro Shows of Texas, Inc | 6601 9 Mile Azle Rd | Fort Worth, TX 76135 | 2432196
30 | Pyro Spectaculars, Inc | 3196 N Locust Ave | Rialto, CA 92376 | 029329
31 | Pyro Spectaculars North, Inc | 5301 Lang Avenue | McClellan, CA 95652 | 1671438
32 | Pyrotecnico Fireworks Inc | 299 Wilson Rd | New Castle, PA 16105 | 526749
33 | Rainbow Fireworks, Inc | 76 Plum Ave | Inman, KS 67546 | 1139643
34 | RES Specialty Pyrotechnics dba RES Pyro | 21595 286th St | Belle Plaine, MN 56011 | 523981
35 | RKM Fireworks Company | 27383 May St | Edwardsburg, MI 49112 | 1273436
36 | Rozzi's Famous Fireworks, Inc | 118 Karl Brown Way | Loveland, OH 45140 | 0483686
37 | Santore's World Famous Fireworks, LLC | 846 Stillwater Bridge Road | Schaghticoke, NY 12154 | 2574135
38 | Southern Sky Fireworks, LLC | 6181 Denham Rd | Sycamore, GA 31790-2603 | 3168056
39 | Spielbauer Fireworks Co, Inc | 1976 Lane Road | Green Bay, WI 54311 | 046479
40 | Starfire Corporation | 682 Cole Road | Carrolltown, PA 15722 | 554645
41 | Vermont Fireworks Co., dba Northstar Fireworks Co., Inc | 2235 Vermont Route 14 South | East Montpelier, VT 05651 | 310632
42 | Western Display Fireworks, Ltd | 10946 S. New Era Rd | Canby, OR 97013 | 498941
43 | Wolverine Fireworks Display, Inc | 205 W Seidlers | Kawkawlin, MI | 376857
44 | Young Explosives Corp | 2165 New Michigan Rd | Canandaigua, NY 14618 | 450304
45 | Zambelli Fireworks MFG, Co., Inc | 120 Marshall Drive | Warrendale, PA 15086 | 033167

[FR Doc. 2022-14510 Filed 7-7-22; 8:45 am]

BILLING CODE 4910-EX-P